DEPARTMENT OF LABOR

Employment and Training Administration

[TA-W-59,248]

Kimberly-Clark; Lakeview Plant; Neenah, WI; Notice of Termination of Investigation

Pursuant to Section 221 of the Trade Act of 1974, an investigation was initiated on April 20, 2006 in response to a petition filed by a company official and the USW Local 2-482 on behalf of workers at Kimberly-Clark, Lakeview Plant, Neenah, Wisconsin.

The petitioners have requested that the petition be withdrawn. Consequently, the investigation has been terminated.

Signed in Washington, DC, this 24th day of May 2006.
Elliott S. Kushner,
Certifying Officer, Division of Trade Adjustment Assistance.

[FR Doc. E6-9022 Filed 6-8-06; 8:45 am]

BILLING CODE 4510-30-P